FEDERAL RETIREMENT THRIFT INVESTMENT BOARD

Notice of Board Meeting; Correction

AGENCY: Federal Retirement Thrift Investment Board.

ACTION: Notice; correction.

SUMMARY: The FRTIB published a document in the Federal Register of March 14, 2022, concerning a notice of its March 2022 Board Meeting. The date of that meeting has since changed.

FOR FURTHER INFORMATION CONTACT: Kimberly Weaver, Director, Office of External Affairs, (202) 942-1640.

SUPPLEMENTARY INFORMATION:

Correction

In the Federal Register of March 14, 2022, in FR Doc 2022-05319, on page 14265, change the date of the Board Meeting: “March 24, 2022 at 10:00 a.m.”

Dated: March 15, 2022.
Dharmesh Vashee,
General Counsel.

[FR Doc. 2022-05730 Filed 3-17-22; 8:45 am]

BILLING CODE P